DEPARTMENT OF HEALTH AND HUMAN SERVICES

Food and Drug Administration

21 CFR Part 1

[Docket Nos. 02N-0275 and 02N-0277]

Proposed Regulations Implementing Title III of the Public Health Security and Bioterrorism Preparedness and Response Act of 2002; Notice of Public Meeting; Correction

AGENCY: Food and Drug Administration, HHS.

ACTION: Notice; satellite downlink public meeting; correction.

SUMMARY: The Food and Drug Administration (FDA) is correcting a document that appeared in the Federal Register of April 8, 2003 (68 FR 16998). The document announced a public meeting (via satellite downlink) to discuss the proposed regulations implementing two sections in Title III of the Public Health Security and Bioterrorism Preparedness and Response Act of 2002 (the Bioterrorism Act) regarding maintenance and inspection of records for foods (Docket No. 02N-0277) and administrative detention (Docket No. 02N-0275). The document was published with inadvertent errors. This document corrects those errors.

FOR FURTHER INFORMATION CONTACT: Louis Carson, Center for Food Safety and Applied Nutrition (HFS-32), Food and Drug Administration, 5100 Paint Branch Pkwy., College Park, MD 20740, 301-436-2277, FAX: 301-436-2605, e-mail: CFSAN-SS@cfsan.fda.gov.

SUPPLEMENTARY INFORMATION: In the FR Doc. 03-8576, appearing on page 16999 in the Federal Register of Tuesday, April 8, 2003, the following corrections are made:

1. On page 16999, beginning in the second column and ending in the third column, under table 1, under “Pre-event Test:” the last sentence is corrected to read “This is a test of Galaxy 9, Transponder 23 only.”

2. On page 16999, in the first column of the U.S. C-band settings chart, the U.S. transponder number “3” is corrected to read “23”.

3. On page 16999, in the second column of the U.S. C-band settings chart, the U.S. polarization “Vertical” is corrected to read “Horizontal”.

4. On page 16999, in the third column of the U.S. C-band settings chart, the U.S. channel number “3” is corrected to read “23”.

5. On page 16999, in the fourth column of the U.S. C-band settings chart, the U.S. downlink frequency “3760 MHz” is corrected to read “4160 MHz”.

Dated: April 28, 2003.
Jeffrey Shuren,
Assistant Commissioner for Policy.

[FR Doc. 03-10933 Filed 5-2-03; 8:45 am]

BILLING CODE 4160-01-S